SMALL BUSINESS ADMINISTRATION

Charter Re-establishment

Re-establishment of Advisory Committees

We publish this notice following the provisions of the Federal Advisory Committee Act (Pub. L. 92-463) to renew Small Business Administration (SBA) discretionary Advisory Committees. The General Services Administration's Committee Management Secretariat has determined that renewal is in the public interest.

1. National Advisory Council

The Council will provide advice, ideas and opinions on SBA programs and small business issues. The Council's scope of activities includes reviewing SBA programs and informing SBA of current small business issues. Its members provide an essential connection between SBA, SBA program participants, and the small business community nationwide.

2. District Advisory Councils

The District Advisory Councils provide advice and recommendations to the SBA regarding the effectiveness of and need for SBA programs, particularly within the local districts. Official designations include:

1. Alabama District Advisory Council (formerly Birmingham District Advisory Council)

2. Buffalo District Advisory Council

3. Columbus District Advisory Council

4. Connecticut District Advisory Council (formerly Hartford District Advisory Council)

5. Georgia District Advisory Council (formerly Atlanta District Advisory Council)

6. Hawaii District Advisory Council (formerly Honolulu District Advisory Council)

7. Houston District Advisory Council

8. Indiana District Advisory Council (formerly Indianapolis District Advisory Council)

9. Louisiana District Advisory Council (formerly New Orleans District Advisory Council)

10. Maine District Advisory Council (formerly Augusta District Advisory Council)

11. Minnesota District Advisory Council (formerly Minneapolis District Advisory Council)

12. Montana District Advisory Council (formerly Helena District Advisory Council)

13. North Florida District Advisory Council

14. Oregon District Advisory Council (formerly Portland District Advisory Council)

15. Pittsburgh District Advisory Council

16. Rhode Island District Advisory Council (formerly Providence District Advisory Council)

17. Richmond District Advisory Council

18. Santa Ana District Advisory Council

19. Utah District Advisory Council (formerly Salt Lake City District Advisory Council)

20. Vermont District Advisory Council (formerly Montpelier District Advisory Council)

21. Washington, DC District Advisory Council

22. West Virginia District Advisory Council (formerly Clarksburg District Advisory Council)

23. Wisconsin District Advisory Council (formerly Madison District Advisory Council)

FOR FURTHER INFORMATION CONTACT: For additional information, contact Kimberly Mace, Committee Management Specialist, 409 Third Street, NW., Washington, DC 20416; telephone (202) 401-8252.

Scott R. Morris,
Deputy Chief of Staff.

[FR Doc. 03-29713 Filed 11-26-03; 8:45 am]

BILLING CODE 8025-01-P